EQUAL EMPLOYMENT OPPORTUNITY COMMISSION

Sunshine Act Meeting

Federal Register Citation of Previous Announcement: 72 FR 43273, Friday, August 3, 2007.

Previously Announced Time and Date of Meeting: Friday, August 10, 2007, 10 a.m. (Eastern Time).

Change in the Meeting: The meeting has been cancelled.

FOR FURTHER INFORMATION CONTACT: Stephen Llewellyn, Acting Executive Officer on (202) 663-4070.

Dated: August 9, 2007.
Stephen Llewellyn,
Acting Executive Officer, Executive Secretariat.

[FR Doc. 07-3950 Filed 8-9-07; 12:01 pm]

BILLING CODE 6570-01-M